ELECTION ASSISTANCE COMMISSION

Agency Information Collection Activities

AGENCY: Election Assistance Commission.

ACTION: Notice; request for public comment.

SUMMARY: As part of its continuing effort to reduce paperwork burdens, and as required by the Paperwork Reduction Act of 1995 (PRA), the U.S. Election Assistance Commission (EAC) gives notice that it is requesting from the Office of Management and Budget (OMB) a modification of the previously approved information collection OMB Control Number 3265-0021 EAC Progress Report (EAC-PR).

DATES: Comments must be received by 5 p.m. Eastern on Monday, October 2, 2023.

ADDRESSES: To view the proposed EAC-PR format, see: https://www.eac.gov/payments-and-grants/financial-progress-reports. For information on the EAC-PR, contact Risa Garza, Office of Grants, Election Assistance Commission, Grants@eac.gov. Written comments and recommendations for the proposed information collection should be sent directly to Grants@eac.gov. All requests and submissions should be identified by the title of the information collection.

SUPPLEMENTARY INFORMATION: Previously filed under Title and OMB Number: EAC Progress Report; 86 FR 73747 (Page 73747-73748, Document Number: 2021-28199).

Purpose

The EAC Office of Grants Management (EAC/OGM) is responsible for distributing, monitoring, and providing technical assistance to States and grantees on the use of Federal funds. EAC/OGM also reports on how the funds are spent, negotiates indirect cost rates with grantees, and resolves audit findings on the use of HAVA funds.

The EAC-PR is employed for both interim and final progress reports for grants issued under HAVA authority. This revised format builds upon that report for the various grant awards given by EAC. A “For Comment” version of the draft format for use in submission of grant progress reports is posted on the EAC website at: https://www.eac.gov/payments-and-grants/financial-progress-reports. The PR will directly benefit award recipients by making it easier for them to administer Federal grant and cooperative agreement programs through standardization of the types of information required in financial reporting—thereby reducing their administrative effort and costs.

After obtaining and considering public comment, the EAC will prepare the format for final clearance. Comments are invited on (a) ways to enhance the quality, utility, and clarity of the information collected from respondents, including through the use of automated collection techniques or other forms of information technology; and (b) ways to minimize the burden of the collection of information on respondents, including through the use of automated collection techniques or other forms of information technology.

Description: The EAC proposes to collect progress activity data for HAVA. EAC will use this data to ensure grantees are proceeding in a satisfactory manner in meeting the approved goals and purpose of the project.

The requirement for grantees to report on performance is OMB grants policy. Specific citations are contained in Code of Federal Regulations TITLE 2, PART 200—UNIFORM ADMINISTRATIVE REQUIREMENTS, COST PRINCIPLES, AND AUDIT REQUIREMENTS FOR FEDERAL AWARDS.

Respondents: All EAC grantees and State governments.

Annual Burden Estimates
EAC grant | Instrument | Total number of respondents | Total number of responses per year | Average burden hours per response | Annual burden hours
251 | EAC-PR | 29 | 2 | 1 | 58
101 | EAC-PR | 12 | 2 | 1 | 24
Election Security | EAC-PR | 56 | 2 | 1 | 112
Total |  |  |  |  | 194

The estimated cost of the annualized cost of this burden is: $4,677.34, which is calculated by taking the annualized burden (194 hours) and multiplying by an hourly rate of $24.11 (GS-8/Step 5 hourly basic rate).

Camden Kelliher,
Senior Associate Counsel, U.S. Election Assistance Commission.

[FR Doc. 2023-16268 Filed 7-31-23; 8:45 am]

BILLING CODE P